DEPARTMENT OF COMMERCE

Foreign-Trade Zones Board

[S-174-2020]

Approval of Subzone Expansion; ASML US, LLC; Wilton, Connecticut

On October 5, 2020, the Executive Secretary of the Foreign-Trade Zones (FTZ) Board docketed an application submitted by the Bridgeport Port Authority, grantee of FTZ 76, requesting an expansion of Subzone 76A subject to the existing activation limit of FTZ 76, on behalf of ASML US, LLC, in Wilton, Connecticut.

The application was processed in accordance with the FTZ Act and Regulations, including notice in the Federal Register inviting public comment (85 FR 63505, October 8, 2020). The FTZ staff examiner reviewed the application and determined that it meets the criteria for approval. Pursuant to the authority delegated to the FTZ Board Executive Secretary (15 CFR 400.36(f)), the application to expand Subzone 76A was approved on November 25, 2020, subject to the FTZ Act and the Board's regulations, including Section 400.13, and further subject to FTZ 76's 476-acre activation limit.

Dated: November 25, 2020.
Andrew McGilvray,
Executive Secretary.

[FR Doc. 2020-26578 Filed 12-1-20; 8:45 am]

BILLING CODE 3510-DS-P